DEPARTMENT OF STATE

[Public Notice 11115]

International Digital Economy and Telecommunication (IDET) Advisory Committee Solicitation of Applications for Membership

ACTION: Notice.

SUMMARY: The Deputy Assistant Secretary of State for International Communications and Information Policy, in the Bureau of Economic and Business Affairs is accepting applications for membership on the International Digital Economy and Telecommunication (IDET) Advisory Committee, formerly known as the International Telecommunication Advisory Committee (ITAC).

DATES: Applications should be sent by email to IDET@state.gov by close of business on August 21, 2020.

FOR FURTHER INFORMATION CONTACT: Please contact the Designated Federal Officer (DFO) Daniel Oates at (202) 647-5205 or Lynnette Jackson at IDET@state.gov.

SUPPLEMENTARY INFORMATION: The purpose of the IDET is to advise the Department of State with respect to, and provide strategic planning recommendations on, digital economy, digital connectivity, economic aspects of emerging digital technologies, telecommunications, and communication and information policy matters, including those related to the U.S. participation in the work of the International Telecommunication Union (ITU), the Organization of American States Inter-American Telecommunication Commission (CITEL), the Organization for Economic Cooperation and Development (OECD), the Asia Pacific Economic Cooperation (APEC) Forum Telecommunications and Information Working Group, the Group of Seven (G7), the Group of Twenty (G20) Digital Economy Task Force, and relevant standards setting bodies. Its Charter is accessible here: https://www.state.gov/charter-of-the-united-states-international-digital-economy-and-telecommunication-advisory-committee/.

Qualifications and Membership: IDET Members are appointed by the Deputy Assistant Secretary and must be U.S. citizens or legal permanent residents of the United States. The IDET charter calls for representative members; therefore, a prospective member must represent a company or organization. Solo members (who “represent themselves”) will not be selected. To ensure diversity in advice, IDET membership will include not more than one representative from any affiliated agency or organization so long as the threshold of no fewer than 20 members is met. IDET members must be versed in the complexity of international communications and information policy issues and must be able to advise the Department of State on these matters. Members are expected to use their expertise and provide candid advice. Please note that IDET members will not be reimbursed for travel, per diem, nor other expenses incurred in connection with their duties as IDET members.

How to Apply: Applicants should email applications in response to this notice to IDET@state.gov. Applications must contain the following information: (1) Name of applicant; (2) citizenship of the applicant or residency status; (3) organizational affiliation and title; (4) mailing address; (5) work telephone number; (6) email address; (7) résumé; (8) brief statement of interest for IDET membership of no more than 300 words; and (9) confirmation that your organization or company expects you to represent their interests.

Zachary A. Parker,
Director, Office of Directives Management, Department of State.

[FR Doc. 2020-17648 Filed 8-11-20; 8:45 am]

BILLING CODE 4710-07-P